DEPARTMENT OF EDUCATION

Parental Information and Resource Centers; Final Priorities and Eligibility Requirements

AGENCY: Office of Innovation and Improvement, Department of Education.

ACTION: Notice of final priorities and eligibility requirements.

SUMMARY: The Assistant Deputy Secretary for Innovation and Improvement announces priorities and eligibility requirements under the Parental Information and Resource Centers (PIRC) program. The Assistant Deputy Secretary may use one or more of these priorities for and apply these eligibility requirements to competitions in fiscal year (FY) 2006 and later years. We intend these priorities and requirements to help ensure that funded projects will effectively address the purposes of the PIRC program.

DATES: Effective Date: These priorities and eligibility requirements are effective April 26, 2006.

FOR FURTHER INFORMATION CONTACT: Steven L. Brockhouse, U.S. Department of Education, 400 Maryland Avenue, SW., room 4W229, Washington, DC 20202-5970. Telephone: (202) 260-2476 or via Internet: steve.brockhouse@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: PIRC projects help implement successful and effective parental involvement policies, programs, and activities that lead to improvements in student academic achievement and strengthen partnerships among parents, teachers, principals, administrators, and other school personnel in meeting the education needs of children. Section 5563(b) of the Elementary and Secondary Education Act of 1965, as amended (ESEA), describes project requirements for the recipients of PIRC grants, including requirements to serve both rural and urban areas; to use at least one-half of the funds awarded to a project to serve areas with high concentrations of low-income families; and to use at least 30 percent of the funds awarded to a project to establish, expand, or operate early childhood parent education programs.

We published a notice of proposed priorities and eligibility requirements for this program in the Federal Register on December 28, 2005 (70 FR 76787).

This notice of final priorities makes one change based on the recommendations of commenters. We are adding a new priority addressing the geographic distribution of awards to award additional points to each application based on the total number of students enrolled in the public schools of each State.

Analysis of Comments and Changes

In response to our invitation in the notice of proposed priorities and eligibility requirements, 25 parties submitted comments on one or more of the proposed priorities and eligibility requirements. An analysis of the comments and of any changes in the priorities and eligibility requirements since publication of the notice of proposed priorities and eligibility requirements follows.

We discuss substantive issues under the priority number or requirement to which they pertain.

Generally, we do not address technical and other minor changes—and suggested changes the law does not authorize us to make under the applicable statutory authority.

Priority 1—Geographic Distribution of Awards

Comment: Nine commenters expressed support for this priority. More than half of these commenters also suggested that it would beneficial to consider making more than one award in a State, if possible, so that factors such as the size or diversity of the State's school-age population could be taken into consideration.

Discussion: We agree with the commenters that in making awards, we should give some consideration to other factors to help ensure that additional awards are made in States with relatively large student populations, consistent with quality. This change will help ensure that the geographic distribution of all awards targets States with larger student populations. There are no additional costs to applicants associated with this change.

Change: We have added a new priority to award priority points based on the number of public elementary and secondary school students enrolled in a State.

Comment: One commenter recommended that Priority 1 not be used. The commenter expressed concern that the priority would be detrimental to reaching the neediest populations.

Discussion: The priority to award a PIRC grant to the highest-ranking application in each State (provided that the application is of sufficient quality to show that it is likely to meet the purposes of the PIRC program, implement effective activities, and achieve intended results) does not adversely affect an applicant's ability to focus on needy populations. Consistent with the statutory requirement in section 5563(b)(3) of the ESEA, a PIRC project must target a minimum of 50 percent of the grant funds it receives for services to areas with high concentrations of low-income families. Further, each application must address selection criteria related to need in order to show that the application will appropriately focus on meeting the needs of disadvantaged individuals, including students at risk of educational failure.

Change: None.

Priority 2—Statewide Impact of PIRC Services

Comment: Eleven commenters wrote to express support for the priority. In particular, several commenters noted particular appreciation for the flexible approach contained in the priority that permits a project to include services that are tailored to specific communities, geographic regions, or local educational agencies (LEAs), where appropriate, in addition to the statewide strategies and services that a project would include.

Discussion: None.

Change: None.

Comment: One commenter indicated that it would have been helpful to have a list of required activities associated with the priority.

Discussion: The priority for statewide impact clearly focuses on an applicant's proposed plan to provide services to parents that enhance the ability of parents to participate effectively in their children's education, including their ability to communicate effectively with public school personnel in the school that their child attends. Beyond that, we believe that applicants need to have flexibility to consider the specific activities that are most appropriate to the needs of parents in the State and are likely to have a significant impact in enhancing parents' ability to participate effectively in their children's education and communicate effectively with public school personnel in the school that their child attends.

Change: None.

Comment: One commenter recommended that, in addition to making services that have a statewide impact a priority, we should also award competitive points to an application proposing collaboration with the State educational agency (SEA).

Discussion: We agree with the commenter that the development of an effective collaborative relationship with the SEA is important to implementing broad Statewide strategies but we expect that applicants will address how they propose to establish this relationship in their response to this priority. As a result, we do not believe that changing the priority to require specifically that applicants address this type of collaboration is necessary for applicants to develop their PIRC applications.

Change: None.

Comment: Four commenters expressed concern that giving priority to activities that emphasize statewide approaches would have a detrimental impact on the effectiveness of projects by diluting PIRC services and inhibiting PIRCs' ability to develop and maintain effective working relationships with parents. One of these commenters specifically recommended that the priority not be implemented. Another one of the four commenters recommended a substitute approach that would give priority to those applications that propose to work with their SEA even if the proposed application did not include activities designed to have a statewide impact.

Discussion: The priority for statewide impact does not require that all services provided by a grantee under a PIRC project be delivered on a statewide basis. The statutory requirements for this program clearly provide that grantees must provide services to parents and local communities, so we do not believe PIRCs will be reluctant to work effectively with parents. We believe, however, that there is substantial benefit in supporting the operation of PIRC projects that include activities designed to have a statewide impact.

The priority for statewide impact is intended to help ensure that all parents from across a State have access to information and services, especially services that are designed to enhance the ability of parents to participate effectively in the education of their children. We also intend that this priority will facilitate the ability of PIRC projects to develop more effective working relationships with the State educational agency in their State.

Change: None.

Comment: Two commenters recommended that we fund one or more additional national projects to support PIRC projects. One of the commenters specifically recommended that these additional projects provide content-focused specialties to help other PIRC projects stay abreast of current research and to provide professional development to PIRC projects in translating research into practice.

Discussion: We decline to add funding priorities for national projects in the context of these priorities and requirements because these priorities focus to a greater extent on providing services to States and local communities. We note, however, that section 5565(c) of the ESEA authorizes the Secretary to provide technical assistance to support the operation of PIRCs. We will consider including national activities in future technical assistance grants or contracts authorized by section 5565(c).

Change: None.

Priority 3—Understanding State and Local Report Cards and Opportunities for Public School Choice and Supplemental Educational Services

Comment: Seven commenters wrote to express unqualified support for Priority 3. Of those commenters who discussed their reasons for supporting this priority, one observed that understanding State report cards is fundamental to parents' understanding of their State's accountability system and to empowering parents; one indicated that PIRCs are a source of unbiased information; and another noted that the subject areas addressed in the priority are essential to the role of parents as envisioned by the No Child Left Behind Act of 2001.

Discussion: None.

Change: None.

Comment: One commenter recommended that other PIRC program requirements be limited in order to ensure that PIRC projects had sufficient resources to meet Priority 3 and Priority 4.

Discussion: Section 5563(b) of the ESEA sets forth specific requirements that all applications must address, including two requirements that carry with them minimum standards for the use of funds. Specifically, section 5563(b)(3) requires that each PIRC project use at least 50 percent of the funds it receives in order to serve areas with high concentrations of low-income families. Further, section 5563(b)(10) requires each PIRC project to use at least 30 percent of the funds it receives to establish, expand, or operate an early childhood parent education program such as Parents as Teachers or Home Instruction for Pre-school Youngsters. Applications must be responsive to all of these statutory requirements. Applications may propose activities that address a priority and, at the same time, contribute towards meeting one or more of the statutory requirements in section 5563(b). For example, by focusing some or all of an applicant's proposed activities to address Priority 3 on areas with high concentrations of low-income families, an applicant could both address this priority and contribute towards meeting the requirement in section 5563(b)(3).

Change: None.

Comment: One commenter recommended that we include more specific direction concerning the production and dissemination of information to parents and sought guidance regarding whether a PIRC could work with LEAs to ensure that requirements related to public school choice, supplemental educational services, and State and local report cards are met.

Discussion: We do not believe that incorporation of more specific guidance into the priority is necessary. Projects may work with SEAs, LEAs, schools, parents, or other organizations, as appropriate, and may disseminate information in ways of reaching parents that are best suited to the needs and objectives of the project. As indicated in the notice of proposed priorities and eligibility requirements, guidance on the subject matter of this priority is also available on the Department's Web site as follows.

(Guidance on report cards under Title I of the ESEA is available at: http://www.ed.gov/programs/titleiparta/reportcardsguidance.doc; guidance on supplemental educational services is available at: http://www.ed.gov/policy/elsec/guid/suppsvcsguid.doc; and guidance on public school choice is available at: http://www.ed.gov/policy/elsec/guid/schoolchoiceguid.doc.)

Change: None.

Priority 4—Technical Assistance in the Implementation of Local Educational Agency and School Parental Involvement Policy Under Section 1118 of the ESEA

Comment: Ten commenters wrote to express support for Priority 4.

Discussion: None.

Change: None.

Comment: Two commenters recommended that we expand the language in Priority 4 to include school readiness in addition to student achievement and school performance as an area that should be targeted for improvement through the implementation of the parental involvement policy under section 1118 of the ESEA.

Discussion: We agree with the commenters regarding the importance of school readiness; however, the primary focus of Priority 4 is technical assistance in implementing section 1118 of the ESEA, which requires SEAs, LEAs, and schools to develop parental involvement activities to improve student academic achievement and school performance.

As documented by the results of recent Title I monitoring activity, the need for technical assistance in this area remains substantial. We believe that adding school readiness as another focus for improvement would detract from the primary purpose of the priority. Further, section 5563(b)(10) requires PIRC projects to use a minimum of 30 percent of the funds that a project receives annually for early childhood parent education activities, making early childhood parent education programs an integral part of any PIRC project without further expansion of Priority 4.

Change: None.

Comment: One commenter recommended that Priority 4 include specific requirements related to project materials, the composition of the PIRC project staff, and the use of a statewide telephone number with multiple languages in its menu.

Discussion: We do not think it is necessary to add these requirements. Such specific requirements would reduce applicants' flexibility in designing technical assistance strategies and approaches that are designed to address effectively the individual needs of States and their LEAs and schools.

Change: None.

Eligibility Requirements

Comment: One commenter recommended that institutions of higher education be specifically excluded from serving as either applicants or fiscal agents.

Discussion: Institutions of higher education, like a variety of other organizations, may have specialized knowledge, interests, or programs that focus on parental involvement issues. We believe that excluding institutions of higher education that meet the eligibility requirements described in this notice would serve no beneficial purpose.

Change: None.

Comment: One commenter recommended that we add a provision that would permit an LEA to serve as the fiscal agent if the nonprofit organization provided evidence of its fiscal and program autonomy.

Discussion: The recommendation did not explain why a nonprofit organization that has both fiscal and program autonomy would need an LEA to serve as the fiscal agent for a project. We also believe that allowing this type of exemption would undermine the statutory eligibility requirements for the PIRC program, which provide for nonprofit organizations or consortia of applicants including nonprofit organizations to provide PIRC services.

Change: None.

Comment: Three commenters addressed the eligibility provision concerning the nonprofit organization's board of directors. All three commenters recommended that governance of the nonprofit organization by a board of directors that includes parents of pre-school and school-age children be required of all applicants. One commenter also recommended that we require that a majority of the members of a nonprofit organization's board of directors be such parents.

Discussion: These proposed changes would unnecessarily exclude organizations whose purpose or mission includes the types of programs and activities supported by the PIRC program, but whose boards of directors might not necessarily include parents of pre-school and school-age children.

Change: None.

Other Comments

Comment: Nine commenters wrote regarding the PIRC program requirement in section 5563(b)(10) of the ESEA addressing early childhood parent education programs. In particular, several commenters noted that section 5563(b)(10) requires that each PIRC project use at least 30 percent of the funds it receives annually for early childhood parent education programs and, as a result, it is important that attention be given to the quality of these programs. Four commenters specifically recommended that we add early childhood parent education activities as another priority. Four commenters also recommended that we give priority to applications that propose to use early childhood parent education programs that are either research-based or nationally recognized.

Discussion: We agree that the early childhood parent education programs required by section 5563(b)(10) constitute a significant part of each PIRC project. Since a substantial proportion of the funds awarded to each PIRC project must specifically focus on early childhood parent education programs and activities, it is important that plans for the use of these funds are sufficiently detailed to ensure that the program plans for addressing this aspect of a PIRC project are of high quality and designed to achieve well-defined results. Consequently, we have included a priority addressing early childhood parent education programs in the notice inviting applications for new awards for FY 2006 for the PIRC program published elsewhere in this issue of the Federal Register. This priority may be established without notice and comment pursuant to 34 CFR 75.105(b)(2)(iv).

Change: None.

Comment: One commenter recommended that PIRC projects be required to set aside a minimum of five percent of the funds they receive for evaluation. The commenter also recommended that we require the use of an outside evaluator by each project in order to preserve the independence of the evaluator and enhance the credibility of the evaluation.

Discussion: We agree that it is important for each project to include an appropriate level of support for evaluation activities in its proposed budget and, indeed, in some instances an even greater amount than that suggested by the commenter may be appropriate or necessary. We believe, however, that this question is best addressed through the selection criteria concerning adequacy of resources to determine the extent to which selected costs, including the proposed costs of evaluation, are appropriate, reasonable, and sufficient.

Regarding the recommendation that grant recipients be required to use an outside evaluator, we do not believe that this is necessary under this program.

Change: None.

Comment: One commenter recommended that funding factors include not only size of the population of a State, but also the number of parents of Title I students.

Discussion: The regulations in 34 CFR 75.232 require us to conduct a cost analysis before setting the amount of each award. As part of the cost analysis, we examine costs to determine that they are reasonable and that the budget proposed in the application permits project objectives to be achieved with reasonable efficiency and economy. This analysis would include consideration of the number of parents of students served under Title I of the ESEA.

Change: None.

Note: This notice does not solicit applications. In any year in which we choose to use one or more of these priorities, we invite applications through a notice in the Federal Register. Unless designated in this notice, when inviting applications we designate each priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priorities

Priority 1—Geographic Distribution of Awards: Highest-Ranking Application in a State

This priority supports an application that meets the following three conditions:

(1) The application is the highest-ranking application proposing to implement a PIRC project in a State, based on the selection criteria and competitive preference priorities used for this competition.

(2) The application's PIRC project proposes to provide services only in that State.

(3) The application is of sufficient quality to show that the proposed project is likely to succeed in meeting the purposes of the PIRC program, in implementing effective activities, and in achieving intended results.

For the purpose of selecting applications under this priority, we use the definition of the term “State” in 34 CFR 77.1(c).

Priority 2—Statewide Impact of PIRC Services

This priority supports applications that would implement broad statewide strategies to provide parents from across the State, particularly parents who are educationally or economically disadvantaged, with services that enhance their ability to participate effectively in their child's education, including their ability to communicate effectively with public school personnel in the school that their child attends.

Priority 3—Understanding State and Local Report Cards and Opportunities for Public School Choice and Supplemental Educational Services

This priority supports applications that would implement activities that effectively assist parents in understanding State and local report cards under Title I of the ESEA and, in cases where their child attends a school identified as in need of improvement, corrective action, or restructuring under Title I, in understanding their options for public school choice or supplemental educational services.

Priority 4—Technical Assistance in the Implementation of Local Educational Agency and School Parental Involvement Policy Under Section 1118 of the ESEA

This priority supports applications that would provide technical assistance in the implementation of LEA and school parental involvement policies under Title I of the ESEA in order to improve student academic achievement and school performance.

Priority 5—Geographic Distribution of Awards: Consideration of the Size of the Student Enrollment in a State

Under this competitive preference priority, we award additional points to applications based on the number of students enrolled in the public schools of a State.

We award additional points to each application that proposes to provide services only in a single State based on the total number of students enrolled in the public elementary and secondary schools of that State. To determine the number of such students enrolled in each State, we use the most recent data reported by States to the National Center for Education Statistics, Common Core of Data.

We award a maximum of five points to an application. We award five points to each applicant proposing to serve a State with an enrollment of 2,000,000 or more students; four points to each applicant proposing to serve a State with an enrollment between 1,500,000 students and 1,999,999 students; three points to an applicant proposing to serve a State with an enrollment between 1,000,000 students and 1,499,999 students; two points to an applicant proposing to serve a State with an enrollment between 500,000 and 999,999 students; and one point to an applicant proposing to serve a State with an enrollment of less than 500,000 students.

For the purpose of selecting applications under this priority, we use the definition of the term State in 34 CFR 77.1(c).

Requirements

Eligibility Requirements

We define the term nonprofit organization for purposes of the PIRC program as an organization that:

(1) Is owned and operated by one or more corporations or associations whose net earnings do not benefit, and cannot lawfully benefit, any private shareholder or entity, as set forth in 34 CFR part 77; and

(2) Represents the interests of parents of pre-school and school-age children (including parents who are educationally or economically disadvantaged); or is governed by a board of directors whose membership includes such parents.

For an application submitted by a consortium that includes a nonprofit organization and one or more LEAs the nonprofit organization must serve as the applicant and fiscal agent for the consortium. State and local governments, including LEAs, intermediate school districts, and schools, are not eligible to submit an application on behalf of a consortium or serve as the fiscal agent of a PIRC grant.

Executive Order 12866

This notice of final priorities and eligibility requirements has been reviewed in accordance with Executive Order 12866. Under the terms of the order, we have assessed the potential costs and benefits of this regulatory action.

The potential costs associated with the notice of final priorities and eligibility requirements are those resulting from statutory requirements and those we have determined as necessary for administering this program effectively and efficiently.

In assessing the potential costs and benefits—both quantitative and qualitative—of this notice of final priorities and eligibility requirements, we have determined that the benefits of the final priorities and eligibility requirements justify the costs.

We have also determined that this regulatory action does not unduly interfere with State, local, and tribal governments in the exercise of their governmental functions.

Summary of potential costs and benefits: There are no potential additional costs associated with the one change to these final priorities. The change will help to target assistance to areas of greatest need.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

You may also view this document in text or PDF at the following site: http://www.ed.gov/programs/pirc/applicant.html.

Note: The official version of this document is the document published in the Federal Register. Free Internet access to the official edition of the Federal Register and the Code of Federal Regulations is available on GPO Access at: http://www.gpoaccess.gov/nara/index.html.

(Catalog of Federal Domestic Assistance Number 84.310A Parental Information and Resource Centers)

Program Authority: 20 U.S.C. 7273 et seq.

Dated: March 22, 2006.
Christopher J. Doherty,
Acting Assistant Deputy Secretary for Innovation and Improvement.

[FR Doc. 06-2935 Filed 3-24-06; 8:45 am]

BILLING CODE 4000-01-P